DEPARTMENT OF TRANSPORTATION

Federal Aviation Administration

14 CFR Part 71

[Docket No. FAA-2022-1117; Airspace Docket No. 20-AGL-31]

RIN 2120-AA66

Establishment of Class E Airspace; Delphi, IN

AGENCY: Federal Aviation Administration (FAA), DOT.

ACTION: Final rule; correction.

SUMMARY: This action corrects a typographic error in the final rule published in the Federal Register on April 4, 2023, establishing Class E airspace at Delphi, IN.

DATES: Effective date 0901 UTC, June 15, 2023. The Director of the Federal Register approves this incorporation by reference action under 1 CFR part 51, subject to the annual revision of FAA Order JO 7400.11 and publication of conforming amendments.

FOR FURTHER INFORMATION CONTACT: Jeffrey Claypool, Federal Aviation Administration, Operations Support Group, Central Service Center, 10101 Hillwood Parkway, Fort Worth, TX 76177; telephone (817) 222-5711.

SUPPLEMENTARY INFORMATION:

History

The FAA published a final rule in the Federal Register (88 FR 19823; April 4, 2023), establishing Class E airspace at Delph, IN. Subsequent to publication, the FAA identified that the final rule was published with the incorrect Airspace Docket number. This action corrects this error by replacing the incorrect docket number, 22-AGL-31, with the correct one, 20-AGL-31.

Correction to Final Rule

Accordingly, pursuant to the authority delegated to me, Establishment of Class E Airspace: Delphi, IN, published in the Federal Register on April 4, 2023 (88 FR 19823), is corrected as follows:

§ 71.1 [Amended]

On page 19823, column 2, line 50, amend to read, “Docket No. 20-AGL-31]”.

Issued in Fort Worth, Texas, on April 10, 2023.
Martin A. Skinner,
Acting Manager, Operations Support Group, ATO Central Service Center.

[FR Doc. 2023-07836 Filed 4-13-23; 8:45 am]

BILLING CODE 4910-13-P